DEPARTMENT OF DEFENSE

[DOD-2006-OS-0145]

Office of the Inspector General; Privacy Act of 1974; System of Records

AGENCY: Office of the Inspector General, DoD.

ACTION: Notice to add systems of records.

SUMMARY: The Office of the Inspector General (OIG) proposes to add a system of records to its inventory of record systems subject to the Privacy Act of 1974, (5 U.S.C. 552a), as amended.

DATES: The proposed action will be effective on July 17, 2006 unless comments are received that would result in a contrary determination.

ADDRESSES: Send comments to Chief, FOIA/PA Office, Inspector General, Department of Defense, 400 Army Navy Drive, Room 201, Arlington, VA 22202-4704.

FOR FURTHER INFORMATION CONTACT: Mr. Darryl R. Aaron at (703) 604-9785.

SUPPLEMENTARY INFORMATION: The Office of the Inspector General (OIG) systems of records notices subject to the Privacy Act of 1974, (5 U.S.C. 552a), as amended, have been published in the Federal Register and are available from the address above.

The proposed systems reports, as required by 5 U.S.C. 552a(r) of the Privacy Act, were submitted on June 6, 2006, to the House Committee on Government Reform, the Senate Committee on Homeland Security and Governmental Affairs, and the Office of Management and Budget (OMB) pursuant to paragraph 4c of Appendix I to OMB Circular No. A-130, “Federal Agency Responsibilities for Maintaining Records About Individuals,” dated February 8, 1996, (February 20, 1996, 61 FR 6427).

Dated: June 12, 2006.
C.R. Choate,
Alternative OSD Federal Register Liaison Officer, Department of Defense.

CIG-24

System name:

Office Functional Files.

System Location:

Office of the General Counsel and Assistant Inspector General for the Office of Legal Counsel, Office of the Inspector General, Department of Defense, 400 Army Navy Drive, Suite 1076, Arlington, Virginia 22202-4704.

Categories of individuals covered by the system:

Any individual who has filed a claim, a complaint, pleading or instituted litigation against the Department of Defense, Office of the Inspector General; or any individual who is under investigation by the Department of Defense, Office of the Inspector General.

Categories of records in the system:

Records in the system may contain some or all of the following information about an individual: Name, social security number, position description, grade, salary, work history, and complaint. The system may also contain other records such as: Case history files, copies of applicable law(s), working papers of attorneys, testimony of witnesses, background investigation materials, correspondence, damage reports, contracts, accident reports, pleadings, affidavits, estimates of repair costs, invoices, litigation reports, financial reports, financial data, and other data.

Authority for maintenance of the system:

The Inspector General Act of 1978 (Pub. L. 95-452), as amended; DoD Directive 5106.1; 5 U.S.C. 301; DoD Directive 5145.4, Defense Legal Services Agency; and E.O. 9397 (SSN).

Purpose:

The records are used to answer, evaluate, adjudicate, defend, prosecute, or settle claims, complaints, lawsuits, or criminal and civil investigations.

Routine uses of records maintained in the system, including categories of users and the purposes of such uses:

In addition to those disclosures generally permitted under 5 U.S.C. 552a(b) of the Privacy Act, these records or information contained therein may specifically be disclosed outside the DoD as a routine use pursuant to 5 U.S.C 552a(b)(3) as follows:

The DoD “Blanket Routine Uses” set forth at the beginning of the Inspector General's compilation of systems of records notices apply to this system.

Policies and practices for storing, retrieving, accessing, retaining, and disposing of records in the system:

Storage:

Automated and paper records stored in file cabinets and computerized database.

RETRIEVABILITY:

Name of litigant or subject.

SAFEGUARDS:

Paper and automated records are stored in rooms with restricted access in a secure building. Access is limited to General Counsel Staff in performance of their official duties. Computer systems in which records reside are protected through the use of assigned user or identification(s) and multiple levels of passwords restricting access. A risk assessment has been performed and will be made available on request.

RETENTION AND DISPOSAL:

Disposition pending until the National Archives and Records Administration has approved the retention and disposal schedule for these records, treat the records as permanent.

SYSTEM MANAGER(S) AND ADDRESS:

Office of the General Counsel and Assistant Inspector General for the Office of Legal Counsel, Office of the Inspector General, Department of Defense, 400 Army Navy Drive, Suite 1076, Arlington, Virginia 22202-4704.

NOTIFICATION PROCEDURES:

Individuals seeking to determine whether this system of records contains information about themselves should address written inquiries to the Freedom of Information Act Requester Service Center/Privacy Act Office, Department of Defense, Office of the Inspector General, 400 Army Navy Dr, Arlington VA 22202-4704.

The request should contain the individual's full name, address, and telephone number. These items are necessary for the retrieval of information. Requests submitted on behalf of other persons must include their written authorization.

RECORD ACCESS PROCEDURES:

Individuals seeking to access to records about themselves contained in this system of records should address written inquiries to the Freedom of Information Act Requester Service Center/Privacy Act Office, Department of Defense, Office of the Inspector General, 400 Army Navy Dr, Arlington VA 22202-4704.

The request should contain the individuals's full name, address, and telephone number. These items are necessary for the retrieval of information. Requests submitted on behalf of other persons must include their written authorization.

CONTESTING RECORD PROCEDURES:

The OIG's rules for accessing records and for contesting contents and appealing initial agency determinations are published in 32 CFR part 312 or may be obtained from the system manager.

RECORD SOURCE CATEGORIES:

From all sources with information which may impact upon actual or anticipated litigation, claims or investigations such as administrative boards, other records systems with DoD OIG and other DoD agencies and third parties who provide information voluntarily or response to discovery.

Exemptions claimed for the system:

None.

[FR Doc. 06-5453 Filed 6-15-06; 8:45 am]

BILLING CODE 5001-06-M